DEPARTMENT OF ENERGY

Federal Energy Regulatory Commission

Combined Notice of Filings

Take notice that the Commission has received the following Natural Gas Pipeline Rate and Refund Report filings:

Filings Instituting Proceedings

Docket Numbers: PR24-48-000.

Applicants: Wisconsin Power and Light Company

Description: 284.123(g) Rate Filing: WPL Statement of Operating Conditions Update 2024 to be effective 2/1/2024.

Filed Date: 1/31/24.

Accession Number: 20240131-5373.

Comment Date: 5 p.m. ET 2/21/24.

284.123(g) Protest: 5 p.m. ET 4/1/24.

Docket Numbers: PR24-49-000.

Applicants: Southern California Gas Company.

Description: 284.123(g) Rate Filing: Offshore Delivery Service Rate Revision January 2024 to be effective 1/1/2024.

Filed Date: 1/31/24.

Accession Number: 20240131-5511.

Comment Date: 5 p.m. ET 2/21/24.

284.123(g) Protest: 5 p.m. ET 4/1/24.

Docket Numbers: RP24-371-000.

Applicants: Rockies Express Pipeline LLC.

Description: 4(d) Rate Filing: REX 2024-01-31 Negotiated Rate Agreement to be effective 2/1/2024.

Filed Date: 1/31/24.

Accession Number: 20240131-5485.

Comment Date: 5 p.m. ET 2/12/24.

Docket Numbers: RP24-372-000.

Applicants: BBT Trans-Union Interstate Pipeline, L.P.

Description: 4(d) Rate Filing: BBT Trans-Union Revised Tariff filing to be effective 3/1/2024.

Filed Date: 2/1/24.

Accession Number: 20240201-5041.

Comment Date: 5 p.m. ET 2/13/24.

Docket Numbers: RP24-373-000.

Applicants: Algonquin Gas Transmission, LLC.

Description: 4(d) Rate Filing: Negotiated Rates—Various Releases eff 2-1-24 to be effective 2/1/2024.

Filed Date: 2/1/24.

Accession Number: 20240201-5044.

Comment Date: 5 p.m. ET 2/13/24.

Docket Numbers: RP24-374-000.

Applicants: Carolina Gas Transmission, LLC.

Description: 4(d) Rate Filing: CGT—Clarification of Capacity Release Refund Requirements to be effective 3/4/2024.

Filed Date: 2/1/24.

Accession Number: 20240201-5047.

Comment Date: 5 p.m. ET 2/13/24.

Docket Numbers: RP24-375-000.

Applicants: NEXUS Gas Transmission, LLC.

Description: 4(d) Rate Filing: Negotiated Rates—Various Releases eff 2-1-2024 to be effective 2/1/2024.

Filed Date: 2/1/24.

Accession Number: 20240201-5050.

Comment Date: 5 p.m. ET 2/13/24.

Docket Numbers: RP24-376-000.

Applicants: Maritimes & Northeast Pipeline, L.L.C.

Description: 4(d) Rate Filing: Negotiated Rates—Northern to Emera Energy 3053 eff 2-1-24 to be effective 2/1/2024.

Filed Date: 2/1/24.

Accession Number: 20240201-5051.

Comment Date: 5 p.m. ET 2/13/24.

Docket Numbers: RP24-377-000.

Applicants: Columbia Gas Transmission, LLC.

Description: 4(d) Rate Filing: VEP—CGV NR Amendment 255792-1 to be effective 2/1/2024.

Filed Date: 2/1/24.

Accession Number: 20240201-5076.

Comment Date: 5 p.m. ET 2/13/24.

Docket Numbers: RP24-378-000.

Applicants: Northern Natural Gas Company.

Description: 4(d) Rate Filing: 20240201 Annual PRA to be effective 4/1/2024.

Filed Date: 2/1/24.

Accession Number: 20240201-5083.

Comment Date: 5 p.m. ET 2/13/24.

Docket Numbers: RP24-379-000.

Applicants: Equitrans, L.P.

Description: 4(d) Rate Filing: Negotiated Rate Capacity Release Agreements- 2/1/2024 to be effective 2/1/2024.

Filed Date: 2/1/24.

Accession Number: 20240201-5096.

Comment Date: 5 p.m. ET 2/13/24.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

Filings in Existing Proceedings

Docket Numbers: RP23-917-003.

Applicants: Viking Gas Transmission Company.

Description: Compliance filing: Motion to Place Suspended Tariff Record into Effect to be effective 2/1/2024.

Filed Date: 1/31/24.

Accession Number: 20240131-5209.

Comment Date: 5 p.m. ET 2/12/24.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: February 1, 2024.
Debbie-Anne A. Reese,
Acting Secretary.

[FR Doc. 2024-02467 Filed 2-6-24; 8:45 am]

BILLING CODE 6717-01-P